ENVIRONMENTAL PROTECTION AGENCY

[EPA-HQ-OEI-2006-0157; FRL-8038-6]

Office of Environmental Information; Announcement of Availability and Comment Period for Well Information Draft Data Standard

AGENCY: Environmental Protection Agency.

ACTION: Notice of data availability & request for comment.

SUMMARY: Notice of availability for a 45 day review and comment period is hereby given for the Draft Well Information Data Standard.

The Draft Well Information Data Standard describes data elements and data groupings that are used to exchange information about wells and is a supplement to the ESAR: Monitoring Location [EX000003.1] Data Standard when well information is being exchanged. It includes information about well ownership, location, use, construction, and where samples or measurements are made. The user may find that the information here can be very detailed, however, it should be noted that it provides structure for those data that are available and there is need to exchange. States and U.S. EPA completed a technical review of this standard in the Fall of 2005.

DATES: Comments must be submitted on or before April 13, 2006.

ADDRESSES: Submit your comments, identified by Docket ID No. EPA-HQ-OEI-2006-0157 by one of the following methods:

• http://www.regulations.gov: Follow the on-line instructions for submitting comments.

• E-mail: oei.docket@epa.gov

• Fax: 202-566-1753

• Mail: Environmental Protection Agency, EPA Docket Center (EPA/DC), Announcement of Availability and Comment Period for Well, Information Draft Data Standard, Mailcode: 28221T, 1200 Pennsylvania Avenue, NW., Washington, DC 20460.

• Hand Delivery: Public Reading Room, Room B102, EPA West Building, 1301 Constitution Avenue, NW., Washington, DC.

Instructions: Direct your comments to Docket ID No. EPA-HQ-OEI-2006-0157. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Dawn Banks-Waller; Environmental Protection Agency; 1200 Pennsylvania Avenue, MC 2822T; Washington, DC 20460; Phone: 202 566-0625; Fax: 202 566 1624; E-mail: Banks-Waller.Dawn@epa.gov.

SUPPLEMENTARY INFORMATION: This standard was developed by a group of professionals and submitted as a comment on the ESAR Suite of Data Standards published in an earlier Federal Register. The decision to put the Draft Well Information Data Standard out for review was made jointly by U.S. EPA, States, and Tribes (through the Exchange Network Leadership Council (ENLC)), an organization that represents the USE EPA, States and Tribal entities. The ENLC took over responsibility for Data Standards development, administration and management from the Environmental Data Standards Council (EDSC) in January 2006).

The standards are intended for use in environmental data exchanges among States, Tribal entities and the U.S. EPA. They are not meant to dictate or to limit data an agency chooses to collect for its own internal purposes. Adoption of a data standard should not be interpreted to mean that revisions to databases or information systems are required. What the adoption does mean is that formats for sharing data with Exchange Network (EN) partners will change because the Exchange Network has adopted Shared Schema Components (SSCs) based on the data standards. The SSCs are available on the Exchange Network Web site at http://www.exchangenetwork.net.

The draft data standards documents can be found on EDSC's Web site at http://www.envdatastandards.net/ and are available through the Docket system as indicated above.

Dated: February 21, 2006.
Oscar Morales,
Director, Collection Strategies Division.

[FR Doc. E6-2802 Filed 2-27-06; 8:45 am]

BILLING CODE 6560-50-P